EQUAL EMPLOYMENT OPPORTUNITY COMMISSION

Sunshine Act; Meeting

AGENCY HOLDING THE MEETING: Equal Employment Opportunity Commission (EEOC).

DATE AND TIME: Tuesday, September 3, 2002 at 10:30 a.m. (Eastern Time).

PLACE: Conference Room on the Ninth Floor of the EEOC Office Building, 1801 “L” Street, NW., Washington, DC 20507.

STATUS: The meeting will be closed to the public.

MATTERS TO BE CONSIDERED:

Closed Session

Litigation Recommendation: Amicus Curiae Recommendation.

Note: Any matter not discussed or concluded may be carried over to a later meeting. (In addition to publishing notices on EEOC Commission meeting in the Federal Register, the Commission also provides a recorded announcement a full week in advance on future Commission sessions.)

Please telephone (202) 663-7100 (voice) and (202) 663-4074 (TTD) at any time for information on these meetings.

CONTACT PERSON FOR MORE INFORMATION: Frances M. Hart, Executive Officer on (202) 663-4070.

Dated: August 30, 2002.
Frances M. Hart,
Executive Officer, Executive Secretariat.

[FR Doc. 02-22685 Filed 9-3-02; 10:02 am]

BILLING CODE 6750-06-M